DEPARTMENT OF THE INTERIOR

Bureau of Land Management

[LLAZP02000.L54100000.FR0000.LVCLA12A5210.241A; AZA-35780]

Notice of Realty Action: Application for Conveyance of Federally Owned Mineral Interests in Pima County, Arizona

AGENCY: Bureau of Land Management, Interior.

ACTION: Notice of realty action.

SUMMARY: The Bureau of Land Management (BLM) is processing an application under the Federal Land Policy and Management Act of October 21, 1976 (FLPMA), to convey the federally owned mineral interests of 80 acres located in Pima County, Arizona, to the surface owner, Sahuarita Holdings, LLC. Upon publication of this notice, the BLM is temporarily segregating the federally owned mineral interests in the land covered by the application from all forms of appropriation under the public land laws, including the mining laws for up to 2 years while the BLM processes the application.

DATES: Interested persons may submit written comments to the BLM at the address listed below. Comments must be received no later than March 30, 2015.

ADDRESSES: Bureau of Land Management, Phoenix District Office, 21605 North 7th Avenue, Phoenix, AZ 85027. Detailed information concerning this action is available for review at this address.

FOR FURTHER INFORMATION CONTACT: Benedict Parsons, Realty Specialist, at 623-580-5637. Persons who use a telecommunications device for the deaf (TDD) may call the Federal Information Relay Service (FIRS) at 1-800-877-8339 to contact the above individual during normal business hours. The FIRS is available 24 hours a day, 7 days a week, to leave a message or question for the above individual. You will receive a reply during normal business hours.

SUPPLEMENTARY INFORMATION: The location of the federally owned mineral interest segregated by this notice is identical to that of the privately owned surface estate of the applicant. The tract of land referred to in this notice consists of several miscellaneously shaped parcels of land aggregating 80 acres, situated in Pima County, Arizona, and is described as follows:

Parcel 3, as described in the Warranty Deed to Sahuarita Holdings, LLC, dated, March 29, 2011.

Gila and Salt River Meridian, Arizona

T. 17 S., R. 13 E.,

Sec. 21, N½SE¼, Except any portion lying within the following described lands:

COMMENCING at the center section corner of the said Section 21;

THENCE, South 01 degrees 19 minutes 24 seconds East, along the center section line, 290.97 feet to a point on the south boundary line of Sahuarita Road as shown on Pima County road map #346, said point also being the true point of beginning;

THENCE, North 68 degrees 12 minutes 00 second East, 112.29 feet to an angle point;

THENCE, North 74 degrees 21 minutes 27 second East, 517.24 feet to an angle point;

THENCE, North 74 degrees 49 minutes 59 second East, 193.67 feet to an angle point;

THENCE, North 86 degrees 54 minutes 28 second East, 144.57 feet to an angle point;

THENCE, South 78 degrees 06 minutes 23 second East, 369.53 feet to an angle point;

THENCE, South 74 degrees 54 minutes 09 second East, 205.29 feet to an angle point;

THENCE, South 79 degrees 31 minutes 15 second East, 186.72 feet to an angle point;

THENCE, North 82 degrees 33 minutes 02 second East, 340.08 feet to an angle point;

THENCE, South 87 degrees 36 minutes 56 second East, 145.62, feet to an angle point;

THENCE, South 82 degrees 16 minutes 49 second East, 259.50 feet to an angle point;

THENCE, South 84 degrees 48 minutes 55 second East, 219.07 feet to a point on the East line of said Section 21;

THENCE, South 01 degree 19 minutes 11 second East, along the East section line, 402.94 feet to a point;

THENCE, South 01 degree 18 minutes 20 seconds east, along said East line, 655.77 feet to a point;

THENCE, South 89 degrees 31 minutes 09 seconds West, 2635.11 feet to a point on the center section line of said section;

THENCE, North 01 degree 22 minutes 54 seconds West, along the center section line, 657.16 feet to a point;

THENCE, North 01 degree 19 minutes 24 seconds West, along the center section line, 364.19 feet to the true point of beginning.

Parcel 4, as described in the Warranty Deed to Sahuarita Holdings, LLC, dated March 29, 2011.

Gila and Salt River Meridian, Arizona

T. 17 S., R. 13 E,

Sec. 21, Portions of E½NW¼ and NE¼SW¼, more specifically described as,

BEGINNING at the center section corner of said Section 21;

THENCE, South 01 degree 19 minutes 24 seconds East, along said center section line, 290.97 feet to a point lying on the South boundary line of Sahuarita Road as shown on Pima County road map #346;

THENCE, South 68 degrees 23 minutes 37 seconds West, along a fence line, 533.23 feet to an angle point;

THENCE, South 59 degrees 08 minutes 52 seconds West, 316.13 feet to an angle point;

THENCE, South 82 degrees 45 minutes 20 seconds West, 153.38 feet to an angle point;

THENCE, North 89 degrees 51 minutes 16 seconds West, 31.73 feet to a point;

THENCE, North 89 degrees 25 minutes 53 seconds West, 3297.38 feet to a point on the North line of Section 21;

THENCE, North 89 degrees 25 minutes 53 seconds East, along said North line, 959.80 feet to the North Quarter corner of Section 21;

THENCE, South 01 degree 20 minutes 28 seconds East, along the center section line, 2638.10 feet to the true point of beginning.

The areas described aggregate approximately 80 acres.

Under certain conditions, Section 209(b) of the FLPMA authorizes the conveyance of the federally owned mineral interests in land to the current or prospective surface owner, upon payment of administrative costs and the fair market value of the interest being conveyed. The objective of Section 209 is to allow consolidation of the surface and mineral interests when either one of the following conditions exist: (1) There are no known mineral values in the land; or (2) Where continued Federal ownership of the mineral interests interferes with or precludes appropriate non-mineral development and such development is a more beneficial use of the land than mineral development.

Sahuarita Holdings, LLC, the surface owner filed an application for the conveyance of the federally owned mineral interests in the above-described tracts of land. The applicant has deposited, as required under Section 209(b)(3)(i), a sum of money determined sufficient to cover administrative costs, but not limited to, the cost for the completed Mineral Potential Report. Subject to valid existing rights, on February 12, 2015 the federally owned mineral interests in the land described above are hereby segregated from all forms of appropriation under the public land laws, including the mining laws while the application is being processed to determine if either one of the two specified conditions exists and, if so, to otherwise comply with the procedural requirements of 43 CFR part 2720. The segregative effect shall terminate upon: (1) Issuance of a patent or other document of conveyance as to such mineral interests; (2) Final rejection of the application; or (3) February 13, 2017, whichever occurs first.

Please submit all comments in writing to Benedict Parsons at the address listed above. Before including your address, phone number, email address, or other personal identifying information in your comment, you should be aware that your entire comment, including your personal identifying information, may be made available to the public at any time. While you can ask in your comment to withhold your personal identifying information from public review, we cannot guarantee that we will be able to do so.

Authority: 43 CFR 2720.1-1(b)

Rem Hawes,
Acting District Manager.

[FR Doc. 2015-02944 Filed 2-11-15; 8:45 am]

BILLING CODE 4310-32-P